DEPARTMENT OF HEALTH AND HUMAN SERVICES

Centers for Disease Control and Prevention

[30Day-22-0234]

Agency Forms Undergoing Paperwork Reduction Act Review

In accordance with the Paperwork Reduction Act of 1995, the Centers for Disease Control and Prevention (CDC) has submitted the information collection request titled “The National Ambulatory Medical Care Survey (NAMCS)” to the Office of Management and Budget (OMB) for review and approval. CDC previously published a “Proposed Data Collection Submitted for Public Comment and Recommendations” notice on March 18, 2022, to obtain comments from the public and affected agencies. One non-substantive public comment was received related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

National Ambulatory Medical Care Survey (NAMCS) (OMB Control No. 0920-0234, Exp. 07/31/2024)—Revision—National Center for Health Statistics (NCHS), Centers for Disease Control and Prevention (CDC).

Background and Brief Description

The National Ambulatory Medical Care Survey (NAMCS) was conducted intermittently from 1973 through 1985, and annually since 1989. The survey is conducted under authority of Section 306 of the Public Health Service Act (42 U.S.C. 242k). NAMCS is part of the ambulatory care component of the National Health Care Surveys (NHCS), a family of provider-based surveys that capture health care utilization from a variety of settings, including hospital inpatient and long-term care facilities. NCHS surveys of health care providers include NAMCS, the National Hospital Ambulatory Medical Care Survey (NHAMCS) (OMB Control No. 0920-0278), the National Hospital Care Survey (OMB Control No. 0920-0212), and the National Post-acute and Long-term Care Study (OMB Control No. 0920-0943).

An overarching purpose of NAMCS is to meet the needs and demands for statistical information about the provision of ambulatory medical care services in the United States; this fulfills one of NCHS missions, to collect, analyze, and disseminate timely, relevant, and accurate health data and statistics. In addition, NAMCS provides ambulatory medical care data to study: (1) the performance of the U.S. health care system; (2) care for the rapidly aging population; (3) changes in services such as health insurance coverage change; (4) the introduction of new medical technologies; and (5) the use of electronic health records (EHRs). Ongoing societal changes have led to considerable diversification in the organization, financing, and technological delivery of ambulatory medical care. This diversification is evidenced by the proliferation of insurance and benefit alternatives for individuals, the development of new forms of physician group practices and practice arrangements (such as office-based practices owned by hospitals), the increasing role of advanced practice providers delivering clinical care, and growth in the number of alternative sites of care. Ambulatory services are rendered in a wide variety of settings, including physician/provider offices and hospital outpatient and emergency departments. Since more than 65% of ambulatory medical care visits occur in physician offices, NAMCS provides data on the majority of ambulatory medical care services.

In addition to health care provided in physician offices and outpatient and emergency departments, health centers (HCs) play an important role in the health care community by providing care to people who might not be able to afford it otherwise. HCs are local, non-profit, community-owned health care settings, which serve approximately 29 million individuals throughout the United States. NAMCS collects and provides data on HCs via the NAMCS HC Component. In addition to the HC component NAMCS includes a Provider Interview Component and a Provider Electronic Component. The Provider Interview Component samples ambulatory care providers to collect information on their characteristics and the characteristics of their practice. The Provider Electronic Component gathers information on a sample of electronic data providers including characteristics of the provider, as well as a full year of electronic patient visit data. Lastly, the HC Component samples HCs and collects characteristics of the center as well as a full year of electronic patient visit data.

This revision seeks approval to continue previously approved survey activities for the completion of the 2022 HC Component's data and to conduct the full 2023, 2024, and 2025 data years. CDC plans to implement changes to all three components of NAMCS. HC Component and Provider Interview Component sample sizes will be adjusted. In 2022, the goal is to target 100 HCs overall, while the Provider Interview Component is paused for redesign. In 2023, the goal for NAMCS is to sample 5,000 physicians, 5,000 advanced practice providers, and up to 150 HCs overall. In 2024, we plan to sample up to 10,000 physicians, 20,000 advanced practice providers, and up to 200 HCs overall (if funds allow). Lastly, in 2025 CDC will sample up to 20,000 physicians, 40,000 advanced practice providers, and up to 250 HCs overall.

For 2023-2025, there will be an additional 3,000 physicians sampled yearly for the Provider Electronic Component. The Provider Electronic Component is modifying its Provider Facility Interview questionnaire and there are plans to implement a set-up fee in the future. Also, for the Provider Electronic Component we plan to conduct research on supplementing electronic visit data with electronic data obtained from third-party sources. Questions on the Health Center Facility Interview questionnaire will be modified, and a Set-up Fee Questionnaire will be implemented. In 2023, the Physician Induction Interview will shift to a redesigned Ambulatory Care Provider Interview. Also beginning in 2023, a Tracing Questionnaire will be utilized for the Provider Interview Component, to increase response rates. Visit data collection via abstraction will be placed on hold to evaluate improved methods for collection of these data, and the reinterview study will be discontinued. The provider incentive experiment will also no longer be taking place, as we will begin to conduct other methodological work to improve upon the survey.

CDC requests OMB approval for an estimated 37,744 burden hours. There are no costs to respondents other than their time to participate.

Estimated Annualized Burden Hours
Type of respondents | Form name | Number of respondents | Number of responses per respondent | Average burden per response (in hrs.)
HC Staff | HC Facility Interview questionnaire (Survey year: 2022) | 73 | 1 | 45/60
| Prepare and transmit EHR for Visit Data (quarterly) (Survey year: 2022) | 33 | 4 | 60/60
| Set-up Fee Questionnaire (Survey year: 2022) | 33 | 1 | 15/60
Physician or Staff | ACPI (Survey year: 2023-2025) | 11,667 | 1 | 30/60
| Contact Tracing (Survey year: 2023-2025) | 11,667 | 1 | 10/60
Advanced Practice Provider or Staff | ACPI (Survey year: 2023-2025) Contact Tracing (Survey year: 2023-2025) | 21,667 21,667 | 1 1 | 30/60 10/60
Ambulatory Care Provider or Group or Conglomerate Staff | PFI Survey year: 2023-2025) Prepare and transmit Electronic Visit Data (quarterly) (Survey year: 2023-2025) | 3,000 3,000 | 1 4 | 45/60 60/60
HC Staff | HC Facility Interview questionnaire (Survey year: 2023-2025) | 300 | 1 | 45/60
| Prepare and transmit EHR for Visit Data (quarterly) (Survey year: 2023-2025) | 200 | 4 | 60/60
| Set-up Fee Questionnaire (Survey year: 2023-2025) | 200 | 1 | 15/60

Jeffrey M. Zirger,
Lead, Information Collection Review Office, Office of Scientific Integrity, Office of Science, Centers for Disease Control and Prevention.

[FR Doc. 2022-21218 Filed 9-29-22; 8:45 am]

BILLING CODE 4163-18-P